FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or tradeanalysis@fmc.gov).

Agreement No.: 010979-044.

Title: Caribbean Shipowners Association.

Parties: Bernuth Lines, Ltd.; CMA CGM, S.A.; Crowley Liner Services, Inc.; Interline Connection, N.V.; Seaboard Marine, Ltd.; Seafreight Line, Ltd.; Tropical Shipping and Construction Co., Ltd.; and Zim Integrated Shipping Services, Ltd.

Filing Party: Joe Espinosa, Agreement Administrator; Caribbean Shipowners Association; 101 NE Third Avenue, Suite 1500; Fort Lauderdale, FL 33301-1181.

Synopsis: The amendment deletes Hapag-Lloyd AG as a party to the agreement.

Agreement No.: 012000-001.

Title: CMA CGM/Maruba Amerigo Express Space Charter Agreement.

Parties: CMA CGM S.A. (“CMA CGM”) and Maruba S.A. (“Maruba”).

Filing Party: Paul M. Keane, Esq.; Cichanowicz, Callan, Keane, Vengrow & Textor, LLP; 61 Broadway; Suite 3000; New York, NY 10006-2802.

Synopsis: The amendment alters language to require the consent of CMA CGM prior to Maruba sub-chartering any slots to third parties.

Agreement No.: 012002.

Title: Hyundai/ELJSA Interim Slot Exchange Agreement.

Parties: Hyundai Merchant Marine Co., Ltd. and Evergreen Line Joint Service Agreement.

Filing Party: Paul M. Keane, Esq.; Cichanowicz, Callan, Keane, Vengrow & Textor, LLP; 61 Broadway, Suite 3000; New York, NY 10006-2802.

Synopsis: The agreement authorizes the parties to exchange container slots in the trade between U.S. East Coast ports and ports in China, Japan, South Korea, Taiwan, and Panama.

By Order of the Federal Maritime Commission.
Dated: May 25, 2007.
Bryant L. VanBrakle,
Secretary.

[FR Doc. E7-10494 Filed 5-30-07; 8:45 am]

BILLING CODE 6730-01-P